DEPARTMENT OF DEFENSE

GENERAL SERVICES ADMINISTRATION

NATIONAL AERONAUTICS AND SPACE ADMINISTRATION

48 CFR Parts 1, 4, 9, 17, 22, 42, and 52

[FAC 2005-93; FAR Case 2014-025; Item II; Docket No. 2014-0025; Sequence No. 2]

RIN 9000-AN30

Federal Acquisition Regulation; Fair Pay and Safe Workplaces; Injunction

AGENCY: Department of Defense (DoD), General Services Administration (GSA), and National Aeronautics and Space Administration (NASA).

ACTION: Final rule; injunction.

SUMMARY: A final rule was published in the Federal Register on August 25, 2016 amending the Federal Acquisition Regulation (FAR) to implement the Executive Order (E.O.) on Fair Pay and Safe Workplaces. The E.O. was designed to promote contracting efficiency by improving compliance with basic labor standards during the performance of federal contracts. Implementation of portions of the E.O. was preliminarily enjoined by an order issued by a Federal District court on October 24, 2016. DoD, GSA, and NASA are amending sections of the FAR that are affected by the Court's preliminary injunction order.

DATES: Effective: December 16, 2016.

Applicability Date: October 24, 2016.

FOR FURTHER INFORMATION CONTACT: Ms. Zenaida Delgado, Procurement Analyst, at 202-969-7207 for clarification of content. For information pertaining to status or publication schedules, contact the Regulatory Secretariat Division at 202-501-4755. Please cite FAC 2005-93, FAR Case 2014-025; Injunction.

SUPPLEMENTARY INFORMATION:

A. Background

1. The Final Rule and Court Order

On August 25, 2016, DoD, GSA, and NASA published a final rule in the Federal Register at 81 FR 58562 to implement Executive Order (E.O.) 13673, as amended by E.O. 13683 and 13738 (hereinafter designated as the “E.O.”). The E.O. was designed to promote contracting efficiency by improving contractor compliance with basic labor standards during the performance of Federal contracts. The rule, which added coverage in FAR parts 1, 4, 9, 17, 22, 42, and 52, had an effective date of October 25, 2016.

On October 7, 2016, the Associated Builders and Contractors of Southeast Texas, Inc., the Associated Builders and Contractors, Inc., and the National Association of Security Companies filed a lawsuit in the United States District Court for the Eastern District of Texas (Civil Action No. 1:16-CV-425) seeking to overturn the final rule. On October 13, 2016, the plaintiffs filed an “Emergency Motion for Temporary Restraining Order and Preliminary Injunction.”

The District Court issued a “Memorandum and Order Granting Preliminary Injunction” on October 24, 2016. The Court Order on page 31 states that “Defendants are enjoined [from] implementing any portion of the FAR Rule or Department of Labor Guidance relating to the new reporting and disclosure requirements regarding labor law violations as described in Executive Order 13673 and implemented in the FAR Rule and DOL Guidance. Further, Defendants are enjoined from enforcing the restriction on arbitration agreements.”

On October 25, 2016, the Federal Acquisition Regulatory Council issued a memorandum to the Chief Acquisition Officers, Senior Procurement Executives, Defense Acquisition Regulations Council, and Civilian Agency Acquisition Council directing that all steps necessary be taken to ensure the enjoined sections, provisions, and clauses of the final rule are not implemented until such time as the injunction is terminated. The Council enumerated specific steps to be taken at a minimum, including the following:

1. Ensure new solicitations do not include representations or clauses that the enjoined coverage of the rule would have required—i.e., the representation at FAR 52.222-57 and its commercial items version at paragraph (s) of 52.212-3, and 52.222-58 and the clause at 52.222-59, to direct disclosure of labor law violation decisions by offerors or contractors, or clause 52.222-61, that would require an offeror or contractor to agree to restrict use of mandatory pre-dispute arbitration agreements.

2. If a solicitation has been issued with representations or clauses listed in the previous paragraph 1, amend those solicitations immediately to remove those representations and clauses. Additionally, agencies shall not take any action on information, if any, submitted in response to those representations and clauses.

3. Ensure contracting officers do not implement the procedures in FAR 22.2004-2, 22.2004-3, 22.2004-4, or associated changes in FAR parts 9 and 42.

The FAR Council requested that agencies share its instructions widely among their workforces. It posted the Memorandum at https://www.acquisition.gov/fair-pay-eo and the Department of Labor re-posted the Memorandum at the top of its information page on the Fair Pay and Safe Workplaces E.O. at https://www.dol.gov/asp/fairpayandsafeworkplaces/.

As an additional step to ensure full awareness of, and compliance with, the Court Order, DoD, GSA, and NASA, on behalf of the FAR Council, are taking this more comprehensive administrative action to amend the final rule to include caveats throughout the rule for each section, provision, and clause that was enjoined by the terms of the Court Order. The caveat explains that the affected regulatory coverage has been enjoined as of October 24 and is enjoined indefinitely, but will become effective immediately if the injunction is terminated. At that time, DOD, GSA, and NASA will take an additional administrative action to remove the caveats added by this final rule.

In further compliance with the terms of the Court Order, as explained by the FAR Council in its October 25 Memorandum, GSA's Integrated Award Environment has halted actions to release the changes for the System for Award Management (SAM) that would support bidder and contractor submission of information on labor law violation decisions as well as the changes that would support public disclosure of this information in the Federal Awardee Performance and Integrity Information System (FAPIIS).

2. Paycheck Transparency

The final rule issued on August 25 also included coverage addressing the paycheck transparency requirements in section 5 of the E.O. Section 5(a) of the E.O. requires contractors and subcontractors performing covered contracts or subcontracts to provide wage statements to covered workers, giving them information concerning their hours worked, overtime hours pay, and any additions to or deductions made from their pay. Section 5(b) requires contractors and subcontractors performing covered contracts or subcontracts to provide a document to individuals performing work under the contract or subcontract as independent contractors informing them of their status as independent contractors. These requirements are implemented in FAR 22.2005, FAR 22.2007(d), and the clause at FAR 52.222-60, and further reflected in several other FAR clauses. The Court Order does not enjoin implementation of the coverage on paycheck transparency. On page 31 of the Order, the Court explains that “[t]he court does not find that Plaintiffs have established a substantial likelihood of success on their claims regarding the `paycheck transparency requirement' and have failed to establish that they will suffer irreparable harm as to the implementation of those provisions, which do not take effect until January 1, 2017. See 81 FR at 58713. Therefore, the court declines to enjoin enforcement of the paycheck provisions.” Accordingly, the paycheck transparency clause language at FAR 52.222-60, 52.244-6(c)(1)(xiv), 52.212-5(b)(36), (e)(1)(xvii) and Alternate II(e)(1)(ii)(Q) take effect for new solicitations issued on or after January 1, 2017, as stated in the final rule.

A number of other provisions in FAR parts 9, 22 and clause language in part 52 that make minor editorial changes or technical references are also not affected by the Court Order and, for this reason, do not appear in this final rule.

B. Executive Orders 12866 and 13563

Executive Orders (E.O.s) 12866 and 13563 direct agencies to assess all costs and benefits of available regulatory alternatives and, if regulation is necessary, to select regulatory approaches that maximize net benefits (including potential economic, environmental, public health and safety effects, distributive impacts, and equity). The final rule issued August 25, 2016, was a significant regulatory action subject to review under Section 6(b) of E.O. 12866, Regulatory Planning and Review, dated September 30, 1993, and a major rule under 5 U.S.C. 804. The action published today is amending the FAR to show enjoined sections as being enjoined indefinitely.

C. Regulatory Flexibility Act

The Regulatory Flexibility Act does not apply to this rule because this final rule is an administrative action that does not require publication for public comment.

List of Subjects in 48 CFR Parts 1, 4, 9, 17, 22, 42, and 52

Government procurement.

Dated: December 9, 2016.
William F. Clark,
Director, Office of Government-wide Acquisition Policy, Office of Acquisition Policy, Office of Government-wide Policy.

Therefore DoD, GSA, and NASA amend 48 CFR parts 1, 4, 9, 17, 22, 42, and 52 as set forth below:

1. The authority citation for 48 CFR parts 1, 4, 9, 17, 22, 42, and 52 continues to read as follows:

Authority: 40 U.S.C. 121(c); 10 U.S.C. chapter 137; and 51 U.S.C. 20113.

PART 1—FEDERAL ACQUISITION REGULATIONS SYSTEM

2. Amend section 1.106 by adding a Note to the section to read as follows:

1.106 OMB approval under the Paperwork Reduction Act.

* * * * *

Note to 1.106: By a court order issued on October 24, 2016, FAR segments “52.222-57”, “52.222-58”, and “52.222-59” and their corresponding OMB Control Number “9000-0195” are enjoined indefinitely as of the date of the order. The enjoined segments will become effective immediately if the court terminates the injunction. At that time, DoD, GSA, and NASA will publish a document in the Federal Register advising the public of the termination of the injunction.

PART 4—ADMINISTRATIVE MATTERS

3. Amend section 4.1202 by adding a Note to paragraph (a)(21) to read as follows:

4.1202 Solicitation provision and contract clause.

(a) * * *

(21) * * *

Note to paragraph (a)(21): By a court order issued on October 24, 2016, this paragraph (a)(21) is enjoined indefinitely as of the date of the order. The enjoined paragraph will become effective immediately if the court terminates the injunction. At that time, DoD, GSA, and NASA will publish a document in the Federal Register advising the public of the termination of the injunction.

* * * * *

PART 9—CONTRACTOR QUALIFICATIONS

4. Amend section 9.104-4 by adding a Note to paragraph (b) to read as follows:

9.104-4 Subcontractor responsibility.

* * * * *

(b) * * *

Note to paragraph (b): By a court order issued on October 24, 2016, this paragraph (b) is enjoined indefinitely as of the date of the order. The enjoined paragraph will become effective immediately if the court terminates the injunction. At that time, DoD, GSA, and NASA will publish a document in the Federal Register advising the public of the termination of the injunction.

* * * * *

5. Amend section 9.104-5 by adding a Note to paragraph (d) to read as follows:

9.104-5 Representation and certifications regarding responsibility matters.

* * * * *

(d) * * *

Note to paragraph (d): By a court order issued on October 24, 2016, this paragraph (d) is enjoined indefinitely as of the date of the order. The enjoined paragraph will become effective immediately if the court terminates the injunction. At that time, DoD, GSA, and NASA will publish a document in the Federal Register advising the public of the termination of the injunction.

* * * * *

6. Amend section 9.104-6 by adding Notes to paragraphs (b)(4) and (6) to read as follows:

9.104-6 Federal Awardee Performance and Integrity Information System.

* * * * *

(b) * * *

(4) * * *

Note to paragraph (b)(4): By a court order issued on October 24, 2016, the second sentence of this paragraph (b)(4) is enjoined indefinitely as of the date of the order. The enjoined sentence will become effective immediately if the court terminates the injunction. At that time, DoD, GSA, and NASA will publish a document in the Federal Register advising the public of the termination of the injunction.

* * * * *

(6) * * *

Note to paragraph (b)(6): By a court order issued on October 24, 2016, this paragraph (b)(6), is enjoined indefinitely as of the date of the order. The enjoined paragraph will become effective immediately if the court terminates the injunction. At that time, DoD, GSA, and NASA will publish a document in the Federal Register advising the public of the termination of the injunction.

* * * * *

7. Amend section 9.105-1 by adding a Note to paragraph (b)(4) to read as follows:

9.105-1 Obtaining information.

* * * * *

(b) * * *

(4) * * *

Note to paragraph (b)(4): By a court order issued on October 24, 2016, this paragraph (b)(4) is enjoined indefinitely as of the date of the order. The enjoined paragraph will become effective immediately if the court terminates the injunction. At that time, DoD, GSA, and NASA will publish a document in the Federal Register advising the public of the termination of the injunction.

* * * * *

PART 17—SPECIAL CONTRACTING METHODS

8. Amend section 17.207 by adding a Note to paragraph (c)(8) to read as follows:

17.207 Exercise of options.

* * * * *

(c) * * *

(8) * * *

Note to paragraph (c)(8): By a court order issued on October 24, 2016, this paragraph (c)(8) is enjoined indefinitely as of the date of the order. The enjoined paragraph will become effective immediately if the court terminates the injunction. At that time, DoD, GSA, and NASA will publish a document in the Federal Register advising the public of the termination of the injunction.

* * * * *

PART 22—APPLICATION OF LABOR LAWS TO GOVERNMENT ACQUISITIONS

9. Amend section 22.102-2 by adding a Note to paragraph (c)(3) to read as follows:

22.102-2 Administration and enforcement.

* * * * *

(c) * * *

(3) * * *

Note to paragraph (c)(3): By a court order issued on October 24, 2016, this paragraph (c)(3) is enjoined indefinitely as of the date of the order. The enjoined paragraph will become effective immediately if the court terminates the injunction. At that time, DoD, GSA, and NASA will publish a document in the Federal Register advising the public of the termination of the injunction.

10. Amend section 22.104 by adding Notes to paragraphs (b)(1) and (d) to read as follows:

22.104 Agency labor advisors.

* * * * *

(b) * * *

(1) * * *

Note to paragraph (b)(1): By a court order issued on October 24, 2016, the words “agency labor compliance advisors (ALCAs) (as defined at 22.2002)” in this paragraph (b)(1) are enjoined indefinitely as of the date of the order. The enjoined words will become effective immediately if the court terminates the injunction. At that time, DoD, GSA, and NASA will publish a document in the Federal Register advising the public of the termination of the injunction.

* * * * *

(d) * * *

Note to paragraph (d): By a court order on October 24, 2016, this paragraph (d) is enjoined indefinitely as of the date of the order. The enjoined paragraph will become effective immediately if the court terminates the injunction. At that time, DoD, GSA, and NASA will publish a document in the Federal Register advising the public of the termination of the injunction.

11. Amend section 22.2000 by adding a Note to the section to read as follows:

22.2000 Scope of subpart.

* * * * *

Note to 22.2000: By a court order issued on October 24, 2016, this section is enjoined indefinitely as of the date of the order. The enjoined section will become effective immediately if the court terminates the injunction. At that time, DoD, GSA, and NASA will publish a document in the Federal Register advising the public of the termination of the injunction.

12. Amend section 22.2002 by adding a Note to the section to read as follows:

22.2002 Definitions.

* * * * *

Note to 22.2002: By a court order issued on October 24, 2016, this section is enjoined indefinitely as of the date of the order. The enjoined section will become effective immediately if the court terminates the injunction. At that time, DoD, GSA, and NASA will publish a document in the Federal Register advising the public of the termination of the injunction.

13. Amend section 22.2003 by adding a Note to section to read as follows:

22.2003 Policy.

* * * * *

Note to 22.2003: By a court order issued on October 24, 2016, this section is enjoined indefinitely as of the date of the order. The enjoined section will become effective immediately if the court terminates the injunction. At that time, DoD, GSA, and NASA will publish a document in the Federal Register advising the public of the termination of the injunction.

14. Amend section 22.2004-1 by adding a Note to the section to read as follows:

22.2004-1 General.

* * * * *

Note to 22.2004-1: By a court order issued on October 24, 2016, this section is enjoined indefinitely as of the date of the order. The enjoined section will become effective immediately if the court terminates the injunction. At that time, DoD, GSA, and NASA will publish a document in the Federal Register advising the public of the termination of the injunction.

15. Amend section 22.2004-2 by adding a Note to the section to read as follows:

22.2004-2 Preaward assessment of an offeror's labor law violations.

* * * * *

Note to 22.2004-2: By a court order issued on October 24, 2016, this section is enjoined indefinitely as of the date of the order. The enjoined section will become effective immediately if the court terminates the injunction. At that time, DoD, GSA, and NASA will publish a document in the Federal Register advising the public of the termination of the injunction.

16. Amend section 22.2004-3 by adding a Note to the section to read as follows:

22.2004-3 Postaward assessment of a prime contractor's labor law violations.

* * * * *

Note to section 22.2004-3: By a court order issued on October 24, 2016, this section is enjoined indefinitely as of the date of the order. The enjoined section will become effective immediately if the court terminates the injunction. At that time, DoD, GSA, and NASA will publish a document in the Federal Register advising the public of the termination of the injunction.

17. Amend section 22.2004-4 by adding a Note to the section to read as follows:

22.2004-4 Contractor preaward and postaward assessment of a subcontractor's labor law violations.

* * * * *

Note to 22.2004-4: By a court order issued on October 24, 2016, this section is enjoined indefinitely as of the date of the order. The enjoined section will become effective immediately if the court terminates the injunction. At that time, DoD, GSA, and NASA will publish a document in the Federal Register advising the public of the termination of the injunction.

18. Amend section 22.2006 by adding a Note to the section to read as follows:

22.2006 Arbitration of contractor employee claims.

* * * * *

Note to 22.2006: By a court order issued on October 24, 2016, this section is enjoined indefinitely as of the date of the order. The enjoined section will become effective immediately if the court terminates the injunction. At that time, DoD, GSA, and NASA will publish a document in the Federal Register advising the public of the termination of the injunction.

19. Amend section 22.2007 by adding Notes to paragraphs (a), (b), (c) and (e) to read as follows:

22.2007 Solicitation provisions and contract clauses.

(a) * * *

Note to paragraph (a): By a court order issued on October 24, 2016, this paragraph (a) is enjoined indefinitely as of the date of the order. The enjoined paragraph will become effective immediately if the court terminates the injunction. At that time, DoD, GSA, and NASA will publish a document in the Federal Register advising the public of the termination of the injunction.

(b) * * *

Note to paragraph (b): By a court order issued on October 24, 2016, this paragraph (b) is enjoined indefinitely as of the date of the order. The enjoined paragraph will become effective immediately if the court terminates the injunction. At that time, DoD, GSA, and NASA will publish a document in the Federal Register advising the public of the termination of the injunction.

(c) * * *

Note to paragraph (c): By a court order issued on October 24, 2016, this paragraph (c) is enjoined indefinitely as of the date of the order. The enjoined paragraph will become effective immediately if the court terminates the injunction. At that time, DoD, GSA, and NASA will publish a document in the Federal Register advising the public of the termination of the injunction.

* * * * *

(e) * * *

Note to paragraph (e): By a court order issued on October 24, 2016, this paragraph (e) is enjoined indefinitely as of the date of the order. The enjoined paragraph will become effective immediately if the court terminates the injunction. At that time, DoD, GSA, and NASA will publish a document in the Federal Register advising the public of the termination of the injunction.

PART 42—CONTRACT ADMINISTRATION AND AUDIT SERVICES

20. Amend section 42.1502 by adding a Note to paragraph (j) to read as follows:

42.1502 Policy.

* * * * *

(j) * * *

Note to paragraph (j): By a court order issued on October 24, 2016, this paragraph (j) is enjoined indefinitely as of the date of the order. The enjoined paragraph will become effective immediately if the court terminates the injunction. At that time, DoD, GSA, and NASA will publish a document in the Federal Register advising the public of the termination of the injunction.

21. Amend section 42.1503 by adding Notes to paragraphs (a)(1)(i) and (ii) and (h)(5) introductory text to read as follows:

42.1503 Procedures.

(a)(1) * * *

(i) * * *

Note to paragraph (a)(1)(i): By a court order issued on October 24, 2016, the words “agency labor compliance advisor (ALCA) office (see subpart 22.20)” in this paragraph (a)(1)(i) are enjoined indefinitely as of the date of the order. The enjoined words will become effective immediately if the court terminates the injunction. At that time, DoD, GSA, and NASA will publish a document in the Federal Register advising the public of the termination of the injunction.

(ii) * * *

Note to paragraph (a)(1)(ii): By a court order issued on October 24, 2016, the word “ALCA” in this paragraph (a)(1)(ii) is enjoined indefinitely as of the date of the order. The enjoined word will become effective immediately if the court terminates the injunction. At that time, DoD, GSA, and NASA will publish a document in the Federal Register advising the public of the termination of the injunction.

* * * * *

(h) * * *

(5) * * *

Note to paragraph (h)(5) introductory text: By a court order issued on October 24, 2016, this paragraph (h)(5) is enjoined indefinitely as of the date of the order. The enjoined paragraph will become effective immediately if the court terminates the injunction. At that time, DoD, GSA, and NASA will publish a document in the Federal Register advising the public of the termination of the injunction.

* * * * *

PART 52—SOLICITATION PROVISIONS AND CONTRACT CLAUSES

22. Amend section 52.204-8 by—

a. Revising the date of the provision; and

b. Adding a Note to paragraph (c)(1)(xv).

The revision and addition reads as follows:

52.204-8 Annual Representations and Certifications.

* * * * *

Annual Representations and Certifications (DEC 2016)

* * * * *

(c)(1) * * *

(xv) * * *

Note to paragraph (c)(1)(xv): By a court order issued on October 24, 2016, 52.222-57 is enjoined indefinitely as of the date of the order. The enjoined paragraph will become effective immediately if the court terminates the injunction. At that time, DoD, GSA, and NASA will publish a document in the Federal Register advising the public of the termination of the injunction.

* * * * *

23. Amend section 52.212-3 by—

a. Revising the date of the provision; and

b. Adding Notes to paragraphs (a) and (s).

The revision and addition reads as follows:

52.212-3 Offeror Representations and Certifications—Commercial Items.

* * * * *

Offeror Representations and Certifications—Commercial Items (DEC 2016)

* * * * *

(a) * * *

Note to paragraph (a): By a court order issued on October 24, 2016, the following definitions in this paragraph (a) are enjoined indefinitely as of the date of the order: “Administrative merits determination”, “Arbitral award or decision”, paragraph (2) of “Civil judgment”, “DOL Guidance”, “Enforcement agency”, “Labor compliance agreement”, “Labor laws”, and “Labor law decision”. The enjoined definitions will become effective immediately if the court terminates the injunction. At that time, DoD, GSA, and NASA will publish a document in the Federal Register advising the public of the termination of the injunction.

* * * * *

(s) * * *

Note to paragraph (s): By a court order issued on October 24, 2016, this paragraph (s) is enjoined indefinitely as of the date of the order. The enjoined paragraph will become effective immediately if the court terminates the injunction. At that time, DoD, GSA, and NASA will publish a document in the Federal Register advising the public of the termination of the injunction.

* * * * *

24. Amend section 52.212-5 by—

a. Revising the date of the clause;

b. Adding Notes to paragraphs (b)(35) and (e)(1)(xvi); and

c. Amending Alternate II by—

1. Revising the date of the Alternate; and

2. Adding a Note to paragraph (e)(1)(ii)(P) of Alternate II.

The revisions and additions read as follows:

52.212-5 Contract Terms and Conditions Required to Implement Statutes or Executive Orders—Commercial Items.

* * * * *

Contract Terms and Conditions Required To Implement Statutes or Executive Orders—Commercial Items (DEC 2016)

* * * * *

(b) * * *

(35) * * *

Note to paragraph (b)(35): By a court order issued on October 24, 2016, 52.222-59 is enjoined indefinitely as of the date of the order. The enjoined paragraph will become effective immediately if the court terminates the injunction. At that time, DoD, GSA, and NASA will publish a document in the Federal Register advising the public of the termination of the injunction.

* * * * *

(e)(1) * * *

(xvi) * * *

Note to paragraph (e)(1)(xvi): By a court order issued on October 24, 2016, 52.222-59 is enjoined indefinitely as of the date of the order. The enjoined paragraph will become effective immediately if the court terminates the injunction. At that time, DoD, GSA, and NASA will publish a document in the Federal Register advising the public of the termination of the injunction.

* * * * *

Alternate II (DEC 2016). * * *

* * * * *

(e)(1) * * *

(ii) * * *

(P) * * *

Note to paragraph (e)(1)(ii)(P): By a court order issued on October 24, 2016, 52.222-59 is enjoined indefinitely as of the date of the order. The enjoined paragraph will become effective immediately if the court terminates the injunction. At that time, DoD, GSA, and NASA will publish a document in the Federal Register advising the public of the termination of the injunction.

* * * * *

25. Amend section 52.222-57 by revising the date of the provision and adding a Note to the section to read as follows:

52.222-57 Representation Regarding Compliance with Labor Laws (Executive Order 13673).

* * * * *

Representation Regarding Compliance With Labor Laws (Executive Order 13673) (DEC 2016)

* * * * *

Note to 52.222-57: By a court order issued on October 24, 2016, 52.222-57 is enjoined indefinitely as of the date of the order. The enjoined section will become effective immediately if the court terminates the injunction. At that time, DoD, GSA, and NASA will publish a document in the Federal Register advising the public of the termination of the injunction.

26. Amend section 52.222-58 by revising the date of the provision and adding a Note to the section to read as follows:

52.222-58 Subcontractor Responsibility Matters Regarding Compliance with Labor Laws (Executive Order 13673).

* * * * *

Subcontractor Responsibility Matters Regarding Compliance With Labor Laws (Executive Order 13673) (DEC 2016)

* * * * *

Note to 52.222-58: By a court order issued on October 24, 2016, 52.222-58 is enjoined indefinitely as of the date of the order. The enjoined section will become effective immediately if the court terminates the injunction. At that time, DoD, GSA, and NASA will publish a document in the Federal Register advising the public of the termination of the injunction.

27. Amend section 52.222-59 by revising the date of the clause and adding a Note to the section to read as follows:

52.222-59 Compliance with Labor Laws (Executive Order 13673).

* * * * *

Compliance With Labor Laws (Executive Order 13673) (DEC 2016)

* * * * *

Note to 52.222-59: By a court order issued on October 24, 2016, 52.222-59 is enjoined indefinitely as of the date of the order. The enjoined section will become effective immediately if the court terminates the injunction. At that time, DoD, GSA, and NASA will publish a document in the Federal Register advising the public of the termination of the injunction.

28. Amend section 52.222-61 by revising the date of the clause and adding a Note to the section to read as follows:

52.222-61 Arbitration of Contractor Employee Claims (Executive Order 13673).

* * * * *

Arbitration of Contractor Employee Claims (Executive Order 13673) (DEC 2016)

* * * * *

Note to 52.222-61: By a court order issued on October 24, 2016, 52.222-61 is enjoined indefinitely as of the date of the order. The enjoined section will become effective immediately if the court terminates the injunction. At that time, DoD, GSA, and NASA will publish a document in the Federal Register advising the public of the termination of the injunction.

29. Amend section 52.244-6 by—

a. Revising the date of the clause; and

b. Adding a Note to paragraph (c)(1)(xiii).

The revision and addition read as follows:

52.244-6 Subcontracts for Commercial Items.

* * * * *

Subcontracts for Commercial Items (DEC 2016)

* * * * *

(c)(1) * * *

(xiii) * * *

Note to paragraph (c)(1)(xiii): By a court order issued on October 24, 2016, 52.222-59 is enjoined indefinitely as of the date of the order. The enjoined paragraph will become effective immediately if the court terminates the injunction. At that time, DoD, GSA, and NASA will publish a document in the Federal Register advising the public of the termination of the injunction.

* * * * *

[FR Doc. 2016-30091 Filed 12-15-16; 8:45 am]

BILLING CODE 6820-EP-P